DEPARTMENT OF TRANSPORTATION

Federal Aviation Administration

Notice of Intent To Rule on a Land Release Request at Council Bluffs Municipal Airport (CBF), Council Bluffs, Iowa

AGENCY: Federal Aviation Administration (FAA), DOT.

ACTION: Notice of request to release and sell airport land.

SUMMARY: The FAA proposes to rule and invites public comment on the request to release and sell a 14.1 acre parcel of federally obligated airport property at the Council Bluffs Municipal Airport (CBF), Council Bluffs, Iowa.

DATES: Comments must be received on or before April 16, 2021.

ADDRESSES: Comments on this application may be mailed or delivered to the FAA at the following address: Amy J. Walter, Airports Land Specialist, Federal Aviation Administration, Airports Division, ACE-620G, 901 Locust, Room 364, Kansas City, MO 64106.

In addition, one copy of any comments submitted to the FAA must be mailed or delivered to: Andy Biller, Executive Director, Council Bluffs Municipal Airport, 101 McCandless Lane, Council Bluffs, IA 51503, (712) 322-2284.

FOR FURTHER INFORMATION CONTACT: Amy J. Walter, Airports Land Specialist, Federal Aviation Administration, Airports Division, ACE-620G, 901 Locust, Room 364, Kansas City, MO 64106, (816) 329-2603, amy.walter@faa.gov. The request to release property may be reviewed, by appointment, in person at this same location.

SUPPLEMENTARY INFORMATION: The FAA invites public comment on the request to release a 14.1 acre parcel of airport property at the Council Bluffs Municipal Airport (CBF) under the provisions of 49 U.S.C. 47107(h)(2). The Council Bluffs Airport Authority requested a release from the FAA to sell the parcel to Pottawattamie County to construct a new Roads Department Office and Vehicle Maintenance Shop. The FAA determined this request to release and sell property at the Council Bluffs Municipal Airport (CBF) submitted by the Sponsor meets the procedural requirements of the FAA and the release and sale of the property does not and will not impact future aviation needs at the airport. The FAA may approve the request, in whole or in part, no sooner than thirty days after the publication of this notice.

The following is a brief overview of the request:

The Council Bluffs Municipal Airport (CBF) is proposing the release and sale of a parcel of airport property containing 14.1 acres. The release of land is necessary to comply with Federal Aviation Administration Grant Assurances that do not allow federally acquired airport property to be used for non-aviation purposes. The sale of the subject property will result in the land at the Council Bluffs Municipal Airport (CBF) being changed from aeronautical to non-aeronautical use and release the lands from the conditions of the Airport Improvement Program Grant Agreement Grant Assurances in order to sell the land. In accordance with 49 U.S.C. 47107(c)(2)(B)(i) and (iii), the airport will receive fair market value for the property, which will be subsequently reinvested in another eligible airport improvement project for general aviation use.

Any person may inspect, by appointment, the request in person at the FAA office listed above under FOR FURTHER INFORMATION CONTACT. In addition, any person may request an appointment to inspect the application, notice and other documents determined by the FAA to be related to the application in person at the Council Bluffs Municipal Airport.

Issued in Kansas City, MO, on March 11, 2021.
James A. Johnson,
Director, FAA Central Region, Airports Division.

[FR Doc. 2021-05480 Filed 3-16-21; 8:45 am]

BILLING CODE 4910-13-P